DEPARTMENT OF TRANSPORTATION

Federal Aviation Administration

Public Notice for Waiver of Aeronautical Land-Use Assurance at Auburn-Lewiston Municipal Airport, Auburn, ME

AGENCY: Federal Aviation Administration (FAA), DOT.

ACTION: Request for public comments.

SUMMARY: The FAA is considering a proposal to change a portion of the airport from aeronautical use to non-aeronautical use and to authorize the sale and/or conversion of airport property. The proposal consists of converting 4.1 acres of an 8.5 acre parcel to non-aeronautical use.

This 8.5 acre residential property was acquired under grant 3-23-0002-019-2010 for airport development purposes and to ensure compatible land-use. The portion of the property to be designated as non-aeronautical use will likely be leased as aviation compatible light industrial, retail, or mixed use development. The remaining 4.4 acres will remain aeronautical use and be used for airport development. There are no impacts to the airport by allowing the change in use of the parcel in question as it is not needed for aeronautical purposes.

Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before January 3, 2012.

ADDRESSES: Send comments on this document to Mr. Barry J. Hammer at the Federal Aviation Administration, 12 New England Executive Park, Burlington, Massachusetts 01803, Telephone 781-238-7625.

FOR FURTHER INFORMATION CONTACT: Documents are available for review by appointment by contacting Mr. Rick Cloutier, Airport Manager, Telephone 207-786-0631 or by contacting Mr. Barry J. Hammer, Federal Aviation Administration, 16 New England Executive Park, Burlington, Massachusetts, Telephone 781-238-7625.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Following is the proposed legal description of the parcel to be designated as non-aeronautical use: A certain lot or parcel of land located on the westerly side of Hotel Road, in the City of Auburn, County of Androscoggin, State of Maine, being more particularly bounded and described as follows: Beginning at a 2″ iron pipe found on the westerly right-of-way line of Hotel Road at the northeasterly corner of land N/F of Robert I. & Cynthia L. McLeod as recorded in Deed Book 2694, Page 288, Androscoggin County Registry of Deeds (ACRD); Thence S 59°01′38″ W along the northwesterly line of said McLeod 435.53′ to a #5 rebar with cap stamped “NCS, INC PLS 1314” set in the northeasterly right-of-way line of Constellation Drive. Said rebar being N 59°01′38″ E, 9.84′ from a 2″ iron pipe found; Thence N 26°57′14″ W along the northeasterly right-of-way line of said Constellation Drive and land N/F of City of Auburn and City of Lewiston (Airport Property) 200.49′ to a #5 rebar with cap stamped “NCS, INC PLS 1314” set at the southerly corner of the remaining land of the City of Auburn and City of Lewiston as recorded in Deed Book 7897, Page 253; Thence N 59°01′38″ E along the southerly line of the remaining land of said City of Auburn and City of Lewiston 294.76′ to a #5 rebar with cap stamped “NCS, INC PLS 1314”; Thence N 05°41′32″ W along the easterly line of the remaining land of said City of Auburn and City of Lewiston 513.83′ to a #5 rebar w/cap stamped “NCS, INC PLS 1314” set on a southwesterly line of said Airport Property; Thence S 72°24′31″ E along the said southwesterly line of the Airport Property 217.73′ to a #5 rebar with cap stamped “PLS #2305” found in the westerly right-of-way line of said Hotel Road; Thence S 05°41′32″ E along the westerly right-of-way line of said Hotel Road 554.49′ to the Point of Beginning.

The above described parcel contains 4.13 acres more or less.

Issued in Burlington, Massachusetts on September 30, 2011.
Bryon H. Rakoff,
Acting Manager, Airports Division, New England Region.

[FR Doc. 2011-30883 Filed 11-30-11; 8:45 am]

BILLING CODE 4910-13-M